ENVIRONMENTAL PROTECTION AGENCY

[6646-4]

Environmental Impact Statements; Notice of Availability

Responsible Agency: Office of Federal Activities, General Information (202) 564-7167 or http://www.epa.gov/compliance/nepa/

Weekly receipt of Environmental Impact Statements

Filed December 1, 2003 Through December 5, 2003

Pursuant to 40 CFR 1506.9.

EIS No. 030546, Draft EIS, AFS, PA, Sugar Run Project Area (SRPA), To Achieve and Maintain the Desired Conditions as stated in Forest Plan, Allegheny National Forest, Bradford Ranger District, McKean County, PA, Due: January 26, 2004, Contact: Heather Whittier (814) 362-4713.

EIS No. 030547, Final EIS, COE, AK, King Cove Access Project, Provision of a Transportation System between the City of King Cove and the Cold Bay Airport, U.S. Army COE Section 10 and 404 Permits Issuance, Aleutians East Borough (AEB), Alaska Peninsula, AK, Due: January 12, 2004, Contact: G. Leroy Phillips (907) 753-2712. This document is available on the Internet at: http://www.kingcoveaccesseis.com.

EIS No. 030548, Final EIS, BLM, AZ, Dos Pobres/San Juan Mining Plan and Land Exchange, Implementation of two Open Pit Copper Mines and one Central Ore Facility, NPDES and COE Section 404 Permits, Graham County, AZ, Due: January 12, 2004, Contact: Scott Evans (928) 348-4400.

EIS No. 030549, Draft EIS, NRC, IL, Dresden Nuclear Power Staten, Unit 2 and 3, Supplement 17, NUREG 1437, Renewal of a Nuclear Power Plant Operating License, Grundy County, IL, Due: February 24, 2004, Contact: Louis L. Wheeler (301) 415-1444. This document is available on the Internet at: http://www.nrc.gov/reading-rm.htm/

EIS No. 030550, Draft EIS, COE, MS, Enhanced Evaluation of Cumulative Effects Associated with U.S. Army Corps of Engineers Permitting Activity for Large-Scale Development in Coastal Mississippi, Mississippi, Hancock, Harrison and Jackson Counties, MS, Due: February 14, 2004, Contact: Dr. Susan I. Rees (251) 694-4141.

EIS No. 030551, Draft EIS, FHW, NC, U.S. 74 Improvements Corridor, between U.S. 601, North of Monroein Union County and I-485 (Charlotte Outer Loop), U.S. Army COE Section 404 Permit, Mecklenburg and Union Counties, NC, Due: January 26, 2004, Contact: Clarence Coleman (919) 856-4350.

EIS No. 030552, Final EIS, AFS, NM, Magdalena Ridge Observatory Project, Construct and Operate an Observatory in the Magdalena Mountains, Cibola National Forest, Magdalena Ranger District, Socorro County, NM, Due: January 12, 2004, Contact: Laura Hudnell (505) 854-2281.

EIS No. 030553, Final EIS, AFS, MT, Programmatic EIS—Winter Motorized Recreation Amendment 24, Proposal to Change the Flathead National Land and Resource Management Plan, Flathead National Forest, Flathead, Lake and Lincoln Counties, MT, Due: January 12, 2004, Contact: Kimberly Smolt (406) 758-5332. This document is available on the Internet at: http://www.fs.fed.us/r1/flathead/

Dated: December 9, 2003.
B. Katherine Biggs,
Associate Director, NEPA Compliance Division, Office of Federal Activities.

[FR Doc. 03-30780 Filed 12-11-03; 8:45 am]

BILLING CODE 6560-50-P